DEPARTMENT OF HOMELAND SECURITY

Coast Guard

33 CFR Part 117

[Docket No. USCG-2013-0711]

RIN 1625-AA09

Drawbridge Operation Regulation; Raccoon Creek, Bridgeport, NJ

AGENCY: Coast Guard, DHS.

ACTION: Notice reopening comment period; Correction.

SUMMARY: The Coast Guard is reopening the comment period to solicit additional comments concerning its notice of proposed rulemaking to change the regulation governing the U.S. Route 130 lift bridge across Raccoon Creek at mile 1.8 at Bridgeport, New Jersey. This notice corrects a misstatement in the notice of proposed rulemaking regarding the bridge data and responds to the initial comments received.

DATES: Comments and related material must be received by June 30, 2014.

ADDRESSES: You may submit comments identified by docket number USCG-2013-0711 using any one of the following methods:

(1) Federal eRulemaking Portal: http://www.regulations.gov.

(2) Fax: 202-493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is 202-366-9329.

See the “Public Participation and Request for Comments” portion of the SUPPLEMENTARY INFORMATION section below for instructions on submitting comments. To avoid duplication, please use only one of these methods.

FOR FURTHER INFORMATION CONTACT: If you have questions on this rule, call or email Mrs. Jessica Shea, Fifth Coast Guard District Bridge Administration Division, Coast Guard; telephone 757-398-6422, email jessica.c.shea2@uscg.mil. If you have questions on viewing or submitting material to the docket, call Cheryl Collins, Program Manager, Docket Operations, telephone 202-366-9826.

SUPPLEMENTARY INFORMATION:

A. Public Participation and Request for Comments

The Coast Guard encourages you to participate in this rulemaking by submitting comments and related materials. All comments received will be posted, without change to http://www.regulations.gov and will include any personal information you have provided.

1. Submitting Comments

If you submit a comment, please include the docket number for this rulemaking (USCG-2013-0711), indicate the specific section of this document to which each comment applies, and provide a reason for each suggestion or recommendation. You may submit your comments and material online (http://www.regulations.gov), or by fax, mail or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an email address, or a phone number in the body of your document so that we can contact you if we have questions regarding your submission.

To submit your comment online, type the docket number [USCG-2013-0711] in the “SEARCH” box and click “SEARCH.” Click on “Submit a Comment” on the line associated with this rulemaking. If you submit your comments by mail or hand delivery, submit them in an unbound format, no larger than 8½ by 11 inches, suitable for copying and electronic filing. If you submit them by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number (USCG-2013-0711) in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

The Coast Guard does not plan to hold a public meeting. But you may submit a request for one to the docket using one of the four methods specified under ADDRESSES. Please explain why one would be beneficial. If we determine that one would aid this rulemaking, we will hold one at a time and place announced by a later notice in the Federal Register.

B. Background and Purpose

On October 28, 2013, the Coast Guard published a notice of proposed rulemaking (NPRM) entitled, Drawbridge Operation Regulation; Raccoon Creek, Bridgeport, NJ in the Federal Register (78 FR 64189). The original comment period, in which the Coast Guard received two comments, closed on December 27, 2013. The NPRM proposed the initial changes to the regulation governing the U.S. Route 130 lift bridge across Raccoon Creek, mile 1.8, and contains useful background and analysis related to the initial proposed change. The public is encouraged to review the NPRM.

The original request from the bridge owner, NJDOT, included logs from the 2007-2013 timeframe. The logs indicated an impact on average of up to 30 vessels annually and an average of 10 vessels in the months of March, April, and November. However, on page 64190 under “D. Discussion of Proposed Rule” heading of the NPRM, the Coast Guard stated ”fewer than 5 vessels annually will be required to provide 4 hours advance notice under the proposed change.” The Coast Guard would like to correct that statement here and give the public the opportunity to comment on the revised bridge data. Table A shows the monthly logs for 2007-2013 during the 7 a.m. to 11 p.m. time period provided by NJDOT.

Table A—Bridge Openings for January 2007-June 2013
Month | 2013 | 2012 | 2011 | 2010 | 2009 | 2008 | 2007
January | 8 | 0 | 0 | 2 | 0 | 2 | 0
February | 8 | 0 | 0 | 1 | 0 | 0 | 0
March | 7 | 0 | 0 | 5 | 0 | 0 | 0
April | 22 | 5 | 0 | 10 | 15 | 13 | 2
May | 39 | 12 | 13 | 33 | 14 | 20 | 17
June | 52 | 27 | 33 | 42 | 33 | 38 | 40
July |  | 36 | 19 | 30 | 81 | 49 | 65
August |  | 27 | 14 | 21 | 59 | 38 | 57
September |  | 34 | 8 | 31 | 59 | 45 | 56
October |  | 12 | 12 | 4 | 26 | 17 | 10
November |  | 8 | 14 | 1 | 2 | 10 | 1
December |  | 1 | 4 | 0 | 6 | 0 | 2
Total |  | 162 | 117 | 180 | 295 | 232 | 250

Additionally, the Coast Guard received two comments on the NPRM that are addressed below. The first commenter stated that the change to the existing regulation is not in the public interest and would inconvenience captains that transit the waterway in those three months. The commenter further stated that this change is a cost savings to the bridge owner and that this cost savings is the true reason behind the change. The commenter requested a revision to the background and purpose and to reopen the comment period. Under the Coast Guard's policy for bridge administration, regulations are not promulgated to relieve the owner or operator of the duty to properly operate the bridge solely because of financial hardship. The Coast Guard did not seek further information from NJDOT. NJDOT provided the Coast Guard with bridge tender logs indicating the actual number of openings for the bridge for the preceding five years. The well-documented data, provided above, of an average of less than 10 bridge openings per month in March, April and November since 2006 justifies this regulatory change. The Coast Guard considers maintaining efficiency and reduction of waste in the operation of bridges as within the public interest. Based on this information, the Coast Guard proposes this change to the drawbridge operation schedule.

Based on the second comment from the marina owner, NJDOT provided additional information to the Coast Guard specific to the month of April. This includes data dating back to 1995. (See Table B)

Table B—Bridge Openings During April 1995-2006
Month | 1995 | 1996 | 1997 | 1998 | 1999 | 2000 | 2001 | 2002 | 2003 | 2004 | 2005 | 2006
April | 4 | 9 | 6 | 20 | 6 | 17 | 3 | 10 | 1 | 7 | 6 | 2

With 19 years of documented openings for the month of April, the average number of transits is less than 10 vessels per month during the month of April. The commenter requested April be eliminated from the final rule. The Coast Guard does not plan to eliminate the month of April from the modification of the operating schedule that governs the Route 130 bridge over Raccoon Creek. The relatively few vessels that require an opening in the month of April may do so by providing four hours advanced notice.

This notice, re-opening the comment period, ensures the public has an opportunity to comment on the revised bridge opening data before the Coast Guard makes the proposed changes final.

This notice is issued under authority of 33 U.S.C. 1223 and 5 U.S.C. 552.

Dated: May 16, 2014.
Stephen P. Metruck,
Rear Admiral, United States Coast Guard, Commander, Fifth Coast Guard District.

[FR Doc. 2014-12373 Filed 5-28-14; 8:45 am]

BILLING CODE 9110-04-P